DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (301) 443-7978.

Registration Form for the National Registry of Effective Prevention Programs—(OMB No. 0930-0210; Revision)—Section 515(d) of the Public Health Service Act (42 U.S.C. 290bb-21) requires that the Director of SAMHSA's Center for Substance Abuse Prevention (CSAP) establish a national data base providing information on programs for the prevention of substance abuse and specifies that the data base shall contain information appropriate for use by public entities and information appropriate for use by nonprofit private entities. Beginning in 1994, CSAP met this responsibility through the High Risk Populations Databank on programs for the prevention of substance abuse funded by direct CSAP grants. In 2000 CSAP expanded its information collection to include voluntary submission of descriptions of effective substance abuse prevention conducted by state and local governments, nonprofit entities, and the private sector.

CSAP has developed a template, accessed through a dedicated site on the World Wide Web, to enable practitioners who have evidence that their program reduces risk factors or increases protective factors pertaining to substance abuse to nominate their own standardized program for the Registry. Each program that is nominated should have been standardized (including curriculum manuals, implementation manuals, videotapes, etc.), well implemented, and findings should derive from well designed research efforts. Program models nominated are reviewed and rated by experts annually to be recommended to the field. CSAP is revising the Registration Form by eliminating collection of information pertaining to the National Prevention System.

CSAP promotes selected models by providing funds to support development of program materials for dissemination, by connecting program developers with organizations able to help in the dissemination efforts, and by promoting model programs nationally through CSAP's State Incentive Grant recipients and regional Centers for Applied Prevention Technology. Annual burden estimates for the Registry are shown in the table below.

Type of submission | Number of respondents | Responses/ respondent | Hours/response | Total burden hours
Complete | 60 | 1 | .90 | 54
Abbreviated | 8 | 1 | .25 | 2
Total | 68 |  |  | 56

Written comments and recommendations concerning the proposed information collection should be sent within 30 days of this notice to: Allison Herron Eydt, Human Resources and Housing Branch, Office of Management and Budget, New Executive Office Building, Room 10235, Washington, DC 20503.

Dated: March 18, 2003.

Richard Kopanda,
Executive Officer, Substance Abuse and Mental Health Services Administration.

[FR Doc. 03-6896 Filed 3-21-03; 8:45 am]

BILLING CODE 4162-20-P